DEPARTMENT OF AGRICULTURE

Grain Inspection, Packers and Stockyards Administration

Designation for the Aberdeen, SD; Bloomington, IL; Hastings, NE; Fulton, IL; the State of Missouri, and the State of South Carolina Areas

AGENCY: Grain Inspection, Packers and Stockyards Administration, USDA.

ACTION: Notice.

SUMMARY: GIPSA is announcing the designation of Aberdeen Grain Inspection, Inc. (Aberdeen); Central Illinois Grain Inspection, Inc. (Central Illinois); Hastings Grain Inspection, Inc. (Hastings); John R. McCrea Agency, Inc. (McCrea); Missouri Department of Agriculture (Missouri); and South Carolina Department of Agriculture (South Carolina) to provide official services under the United States Grain Standards Act (USGSA), as amended.

DATES: Effective Date: October 1, 2014.

ADDRESSES: Eric J. Jabs, Deputy Director, USDA, GIPSA, FGIS, QACD, 10383 North Ambassador Drive, Kansas City, MO 64153.

FOR FURTHER INFORMATION CONTACT: Eric J. Jabs, 816-659-8408 or Eric.J.Jabs@usda.gov.

Read Applications: All applications and comments will be available for public inspection at the office above during regular business hours (7 CFR 1.27(c)).

SUPPLEMENTARY INFORMATION: In the April 15, 2014, Federal Register (79 FR 21207), GIPSA requested applications for designation to provide official services in the geographic areas presently serviced by Aberdeen, Hastings, McCrea, Missouri, and South Carolina. Applications were due by May 15, 2014.

Aberdeen, Hastings, McCrea, Missouri, and South Carolina were the sole applicants for designation to provide official services in these areas. As a result, GIPSA did not ask for additional comments.

In the April 21, 2014, Federal Register (79 FR 22092), GIPSA requested applications for designation to provide official services in the Bloomington, IL and Decatur, IL geographic areas. Applications were due by May 21, 2014.

Central Illinois was the sole applicant for designation to provide official services in these areas. As a result, GIPSA did not ask for additional comments.

GIPSA evaluated all available information regarding the designation criteria in section 79(f) of the USGSA (7 U.S.C. 79(f)) and determined that Aberdeen, Hastings, McCrea, and Missouri are qualified to provide official services in the geographic area specified in the Federal Register on April 15, 2014. This designation action to provide official services in these specified areas is effective October 1, 2014 to September 30, 2017.

GIPSA evaluated all available information regarding the designation criteria in section 79(f) of the USGSA (7 U.S.C. 79(f)) and determined that Central Illinois is qualified to provide official services in the geographic area specified in the Federal Register on April 21, 2014. This designation action to provide official services in these specified areas is effective October 1, 2014 to March 31, 2017.

After completing quality management reviews of South Carolina, GIPSA determined that South Carolina only should receive a one year designation. Accordingly, GIPSA is designating South Carolina to provide services in this specified area for one year, effective October 1, 2014 to September 30, 2015. During this timeframe, another review will be conducted.

Interested persons may obtain official services by contacting these agencies at the following telephone numbers:

Official agency | Headquarters location and telephone | Designation start | Designation end
Aberdeen | Aberdeen, SD (605) 225-8432 | 10/1/2014 | 9/30/2017
Central Illinois | Bloomington, IL (309) 827-7121 | 10/1/2014 | 3/31/2017
Hastings | Hastings, NE (402) 462-4254 | 10/1/2014 | 9/30/2017
McCrea | Fulton, IL (815) 589-9955 | 10/1/2014 | 9/30/2017
Missouri | Jefferson City, MO (573) 751-5515 | 10/1/2014 | 9/30/2017
South Carolina | Columbia, SC (803) 556-6403 | 10/1/2014 | 9/30/2015

Section 79(f) of the USGSA authorizes the Secretary to designate a qualified applicant to provide official services in a specified area after determining that the applicant is better able than any other applicant to provide such official services (7 U.S.C. 79 (f)).

Under section 79(g) of the USGSA, designations of official agencies are effective for no longer than three years unless terminated by the Secretary; however, designations may be renewed according to the criteria and procedures prescribed in section 79(f) of the USGSA.

Authority: 7 U.S.C. 71-87k.

Larry Mitchell,
Administrator, Grain Inspection, Packers and Stockyards Administration.

[FR Doc. 2014-28783 Filed 12-8-14; 8:45 am]

BILLING CODE 3410-KD-P